DEPARTMENT OF THE INTERIOR

Fish and Wildlife Service

50 CFR Part 17

[FWS-R7-ES-2011-N086; 70120-1113-0000-C4]

Endangered and Threatened Wildlife and Plants; Eskimo Curlew; Initiation of 5-Year Status Review

AGENCY: Fish and Wildlife Service, Interior.

ACTION: Initiation of 5-year status review and request for information.

SUMMARY: We, the U.S. Fish and Wildlife Service (Service), announce the initiation of a 5-year status review for the Eskimo curlew (Numenius borealis), a bird species listed as endangered under the Endangered Species Act of 1973, as amended (Act). We conduct 5-year reviews to ensure that our classification of each species as threatened or endangered on the List of Endangered and Threatened Wildlife and Plants is accurate. We request any new information on this species that may have a bearing on its classification as endangered. Based on the results of this 5-year review, we will make a finding on whether this species is properly classified under the Act.

DATES: To allow us adequate time to conduct our 5-year review, we are requesting that you submit your information no later than August 22, 2011. However, we accept new information about any listed species at any time.

ADDRESSES: Submit your comments and information on this species, as well as any request for information, by any one of the following methods. You may also view information and comments we receive in response to this notice, as well as other documentation in our files, at the following locations by appointment, during normal business hours.

E-mail: denise_walther@fws.gov; Use “Eskimo curlew” as the message subject line.

Fax: Attn: Denise Walther (907) 456-0208.

U.S. mail: Denise Walther, U.S. Fish and Wildlife Service, 101 12th Avenue, Room 110, Fairbanks, Alaska, 99701.

In-Person drop-off or Document review/pickup: You may drop off comments and information, review/obtain documents, or view received comments during regular business hours at the above address.

FOR FURTHER INFORMATION CONTACT: Denise Walther, Endangered Species Biologist, at the address under ADDRESSES or by phone at (907) 456-0277.

SUPPLEMENTARY INFORMATION:

I. Background

We originally listed the Eskimo curlew (Numenius borealis) as endangered under the Endangered Species Preservation Act of 1966 on March 11, 1967 (32 FR 4001). No information on the biology of the species or the threats to it was presented in the listing. No critical habitat has been designated for the species. Eskimo curlews are thought to have once numbered in the hundreds of thousands (Gill et al. 1998). The population declined precipitously and approached extinction in the late 19th century. Spring market hunting in the midwestern United States during the late 1800s was clearly an important factor contributing to the species' decline. However, Gill et al. (1998) also implicate the conversion of prairie habitat to agriculture, fire suppression, and extinction of the Rocky Mountain grasshopper (Melanoplus spretus) in the rapid decline of Eskimo curlew. By 1900, sightings of Eskimo curlews were rare. The last confirmed observation took place in Nebraska in 1987.

Because Eskimo curlews were not well studied before their decline, we have very limited information on their biology. The following summary of their life history is based on Gollop et al. (1986), unless another citation is provided. The taxonomy, historical distribution, and ecology of Eskimo curlew is further summarized by Gill et al. (1998).

The only confirmed breeding grounds for the Eskimo curlew occurred in treeless tundra in the Northwest Territories, Canada, but their breeding range probably extended through similar habitats in northern Alaska and possibly eastern Siberia. Nests were simple depressions on bare ground with four eggs, one clutch per season. Hatching occurred during late June and early July. Primary foods on the breeding grounds were berries, particularly crowberries (Empetrum nigrum) and insects.

The Eskimo curlew migrated annually between breeding grounds in North America and wintering grounds in South America. In late summer and fall, the majority of birds migrated eastward across Alaska and Canada, where they continued to forage in heath-shrub habitats. Eskimo curlews staged in large numbers along the coast of Labrador, feeding on berries in nearby uplands and invertebrates in intertidal habitats (Gill et al. 1998), before continuing south 4000-5000 km (2500-3000 mi) over the Atlantic Ocean to South America. They then migrated south to wintering grounds in the Pampas of Argentina, southern Brazil, Uruguay, and Chile. There is some evidence that Eskimo curlews also overwintered in southern Patagonia, possibly leaving the Pampas in mid-winter (Gill et al. 1998). Spring migration probably began in late February to March and continued through May. The northward migration route through South America is unknown. However, Eskimo curlews are thought to have passed through Central America and crossed the Gulf of Mexico into Texas. They travelled northward through the midwestern United States, where they fed on grasshopper egg cases and emerging nymphs, other insects, and earthworms on burned and disturbed prairie and agricultural fields (Gill et al. 1998). Eskimo curlews then migrated northwestward through Canada, returning to the breeding grounds in late May.

II. Initiation of 5-Year Status Review

A. Why do we conduct a 5-year review?

Under the Act (16 U.S.C. 1531 et seq.), we maintain a List of Endangered and Threatened Wildlife and Plants (List) in the Code of Federal Regulations (CFR) at 50 CFR 17.11 (for animals) and 17.12 (for plants). An informational copy of the List, which covers all listed species, is also available on our Internet site at http://endangered.fws.gov/wildlife.html#Species. Section 4(c)(2)(A) of the Act requires us to review the status of each listed species at least once every 5 years. Then, based on such review, under section 4(c)(2)(B), we determine whether any species should be removed from the List (delisted), reclassified from endangered to threatened, or reclassified from threatened to endangered. Any change in Federal classification requires a separate rulemaking process.

Our regulations in 50 CFR 424.21 require that we publish a notice in the Federal Register announcing the species we are reviewing. This notice announces our active 5-year status review of the endangered Eskimo curlew.

B. What information do we consider in our review?

We consider the best scientific and commercial data available at the time we conduct our review. This includes new information that has become available since our current listing determination or most recent status review of the species, such as new information regarding:

A. Any confirmed sightings;

B. Species biology, including but not limited to population trends, distribution, abundance, demographics, and genetics;

C. Habitat conditions, including but not limited to amount, distribution, and suitability;

D. Conservation measures that have been implemented that may benefit the species;

E. Threat status and trends (see five factors under heading “How Do We Determine Whether a Species is Endangered or Threatened?”); and

F. Other new information, data, or corrections, including but not limited to taxonomic or nomenclatural changes, identification of erroneous information contained in the List, and improved analytical methods.

C. How do we determine whether a species is endangered or threatened?

Section 4(a)(1) of the Act requires that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Under section 4(b)(1) of the Act, we are required to base our assessment of these factors solely on the best scientific and commercial data available.

D. What could happen as a result of our review?

For each species we review, if we find new information indicating a change in classification may be warranted, we may propose a new rule that could do one of the following:

A. Reclassify the species from threatened to endangered (uplist);

B. Reclassify the species from endangered to threatened (downlist); or

C. Remove the species from the List (delist).

If we determine that a change in classification is not warranted, then the species remains on the List under its current status.

We must support any delisting by the best scientific and commercial data available, and only consider delisting if such data substantiate that the species is neither endangered nor threatened for one or more of the following reasons:

A. The species is considered extinct;

B. The species is considered to be recovered; and/or

C. The original data available when the species was listed, or the interpretation of such data, were in error (50 CFR 424.11(d)).

E. Request for new information

To ensure that a 5-year review is complete and based on the best available scientific and commercial information, we request new information from the public, governmental agencies, Tribes, the scientific community, environmental entities, industry, and any other interested parties concerning the status of the species.

See “What information do we consider in our review?” for specific criteria. If you submit information, support it with documentation such as maps, bibliographic references, methods used to gather and analyze the data, and/or copies of any pertinent publications, reports, or letters by knowledgeable sources.

F. Public Availability of Comments

Before including your address, phone number, e-mail address, or other personal identifying information in your comment, you should be aware that your entire comment—including your personal identifying information—may be made publicly available at any time. While you can ask us in your comment to withhold your personal identifying information from public review, we cannot guarantee that we will be able to do so. Comments and materials received will be available for public inspection, by appointment, during normal business hours at the offices where we receive comments.

III. Definitions

(A) Species includes any species or subspecies of fish, wildlife, or plant, and any distinct population segment of any species of vertebrate, which interbreeds when mature;

(B) Endangered means any species that is in danger of extinction throughout all or a significant portion of its range; and

(C) Threatened means any species that is likely to become an endangered species within the foreseeable future throughout all or a significant portion of its range.

IV. Authority

We publish this notice under the authority of the Endangered Species Act of 1973, as amended (16 U.S.C. 1531 et seq.).

Dated: May 12, 2011.
LaVerne Smith,
Deputy Regional Director, Region 7, U.S. Fish and Wildlife Service.

[FR Doc. 2011-15355 Filed 6-21-11; 8:45 am]

BILLING CODE 4310-55-P